DEPARTMENT OF COMMERCE

National Oceanic and Atmospheric Administration

RIN 0648-XE849

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday, and Thursday, September 20, 21, and 22, 2016. It will start at 9 a.m. on September 20; 8:30 a.m. on September 21; and at 8:30 a.m. on September 22, 2016.

ADDRESSES: The meeting will be held at the DoubleTree by Hilton Hotel, 50 Ferncroft Road, Danvers, MA 01923; telephone: (978) 777-2500; online at http://doubletree3.hilton.com/en/hotels/massachusetts/doubletree-by-hilton-hotel-boston-north-shore-BOSNSDT/index.html.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, September 20, 2016

After introductions and brief announcements, the meeting will begin with the swearing-in of new and reappointed Council members, followed by the annual election of officers. Next, the Council will receive reports from its Chairman and Executive Director, NMFS's Regional Administrator for the Greater Atlantic Regional Office (GARFO), liaisons from the Northeast Fisheries Science Center and Mid-Atlantic Fishery Management Council, representatives from NOAA General Counsel and the Office of Law Enforcement, and staff from the Atlantic States Marine Fisheries Commission and the U.S Coast Guard. Following these reports, the Council will receive a presentation from the NMFS Highly Migratory Species (HMS) staff on Draft Amendment 10 to the Consolidated HMS Fishery Management Plan (FMP), which addresses habitat revisions.

After a lunch break, members of the public will be able to speak during an open comment period on issues that relate to Council business but are not included on the published agenda for this meeting. Next, the Whiting Plan Development Team (PDT) will present the 2015 Annual Monitoring Report for the small-mesh multispecies fishery, which includes red, silver, and offshore hakes. Based on the contents of this report, the Council may, if necessary, initiate a framework adjustment to modify accountability measures (AMs) in the fishery. The Council then will receive an update from its Atlantic Herring Committee about two actions that are under development: (1) Amendment 8 to the Atlantic Herring FMP, which is considering acceptable biological catch (ABC) control rules for the fishery under a management strategy evaluation (MSE) process and measures to address localized depletion; and (2) Framework Adjustment 5 to potentially modify haddock bycatch AMs in the herring midwater trawl fishery. The Council will close out the day with a report from the GARFO staff about its electronic monitoring (EM) pilot project on Atlantic herring and mackerel midwater trawl vessels to test the utility of EM for future programs.

Wednesday, September 21, 2016

The second day of the meeting will begin with a report from the Transboundary Resource Assessment Committee (TRAC) with results from the 2016 stock assessments for Eastern Georges Bank cod, Eastern Georges Bank haddock, and Georges Bank yellowtail flounder. The Scientific and Statistical Committee (SSC) will report next with ABC recommendations for Georges Bank yellowtail flounder, monkfish, and deep-sea red crab. Following the SSC report, the Council will hear from U.S. representatives to the Transboundary Management Guidance Committee (TMGC) and potentially approve TMGC recommendations for 2017 total allowable catches (TACs) for U.S./Canada shared stocks on Georges Bank. Next, the Council will go into its Groundfish Committee report, where it is scheduled to approve a range of alternatives for Framework Adjustment 56, including: (1) 2017 U.S./Canada specifications; (2) 2017-19 witch flounder specifications; and (3) commercial and recreational management measures for groundfish. More specifically, the management measures under consideration include: (a) Establishment of a sub-annual catch limit (sub-ACL) for northern windowpane flounder for the scallop fishery; (b) a potential increase to the sub-ACL for Georges Bank haddock for the Atlantic herring midwater trawl fishery; (c) revisions to the process for determining recreational management measures; and (d) potential modifications to Atlantic halibut measures. Finally, the Council will receive a briefing on the PDT's Groundfish Monitoring White Paper.

The Council will take a lunch break and, if necessary, conclude any unfinished groundfish business immediately following lunch. Then it will receive a report from its Monkfish Committee, which will include an update on fishing year 2017-19 specifications and potentially lead to the initiation of a framework adjustment if the Council determines that additional management measures are warranted. Closing out the day, the Council will receive an Atlantic deep-sea red crab report and take final action on 2017-19 specifications for the fishery.

Thursday, September 22, 2016

The final meeting day will begin with a preliminary discussion of 2017 Council priorities. Here, the Council will review and discuss a draft list of possible actions and tasks for further development in 2017 covering all committees. The Council will not take final action on priorities until its November meeting. Next, the Council will receive an update from its Habitat Committee on the development of two actions: (1) The Omnibus Deep-Sea Coral Amendment; and (2) a Clam Dredge Framework Adjustment. The Council will hear about ongoing analyses for both actions and provide recommendations for further work. It also will review and possibly approve minor adjustments to the range of alternatives in the coral amendment. The Scallop Committee will report next with an update on Framework Adjustment 28 to the Atlantic Sea Scallop FMP. The framework includes: (1) Specifications for fishing year 2017 with default measures for 2018; (2) a measure to potentially restrict the possession of shell stock inshore of the days-at-sea demarcation line north of 42°20′ N.; (3) modifications to the process for setting scallop fishery annual catch limits; and (4) modifications to the Closed Area I Scallop Access Area boundary to be consistent with potential changes to habitat and groundfish mortality closed areas. More specifically, the 2017 specifications and 2018 default measures include: (a) Setting ABCs, ACLs, days-at-sea, and access-area allocations for both limited access (LA) and limited access general category (LAGC) vessels; (b) determining the hard TAC for the Northern Gulf of Maine Management Area; (c) setting the target TAC for the LAGC incidental catch; and (d) specifying set-aside amounts for the scallop observer and research set-aside programs.

Following a lunch break, the Scallop Committee discussion may resume to conclude any unfinished business before the Council begins its Ecosystem-Based Fishery Management (EBFM) session. Here, the Council will receive a draft report from the EBFM PDT on a Georges Bank operating model to support the development of an example Fishery Ecosystem Plan and Management Strategy Evaluation. The Council will provide further guidance to the PDT and the EBFM Committee for additional work. Next, the Council will develop comments for NMFS on its EBFM road map. Finally, the meeting will conclude with a discussion of items under “other business.”

Although non-emergency issues not contained in this agenda may come before this Council for discussion, those issues may not be the subject of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: August 26, 2016.
Tracey L. Thompson,
Acting Deputy Director, Office of Sustainable Fisheries, National Marine Fisheries Service.

[FR Doc. 2016-21019 Filed 8-31-16; 8:45 am]

BILLING CODE 3510-22-P